DEPARTMENT OF AGRICULTURE

Office of the Secretary

Meeting Notice of the National Agricultural Research, Extension, Education, and Economics Advisory Board

AGENCY: Research, Education, and Economics, USDA.

ACTION: Notice of meeting.

SUMMARY: In accordance with the Federal Advisory Committee Act, 5 U.S.C. App 2, the United States Department of Agriculture (USDA) announces a meeting of the National Agricultural Research, Extension, Education, and Economics Advisory Board.

DATES: The National Agricultural Research, Extension, Education, and Economics Advisory Board will meet May 5-7, 2014. The public may file written comments before or up to two weeks after the meeting with the contact person.

ADDRESSES: The meeting will take place at the Ohio Agricultural Research and Development Center, Shisler Center, 1680 Madison Avenue, Wooster, OH 44691. Written comments from the public may be sent to the Contact Person identified in this notice at: The National Agricultural Research, Extension, Education, and Economics Advisory Board Office, Room 3901, South Building, United States Department of Agriculture, STOP 0321, 1400 Independence Avenue SW., Washington, DC 20250-0321.

FOR FURTHER INFORMATION CONTACT: Michele Esch, Executive Director, or Shirley Morgan-Jordan, Program Support Coordinator, National Agricultural Research, Extension, Education, and Economics Advisory Board; telephone: (202) 720-3684; fax: (202) 720-6199; or email: michele.esch@usda.gov or Shirley.Morgan@ars.usda.gov.

SUPPLEMENTARY INFORMATION: The Honorable Secretary of Agriculture Tom Vilsack, and the Under Secretary of Research, Education, and Economics Dr. Catherine Woteki have been invited to provide brief remarks and welcome the new Board members during the meeting.

On Monday, May 5, 2014, an orientation session for new members and interested incumbent members will be held from 8:00 a.m.-12:00 p.m. (noon). Specific topics of discussion will include a briefing on ethical behavior for federal advisory committee members; briefings regarding the USDA's Research, Education, and Economics Mission Area; a discussion on the role of the Board in advising the Secretary of Agriculture, Land Grant Institutions and Congress; and a discussion on how to most effectively organize the work of the Board and its Committees. The afternoon session will be held from 12:00 p.m.-3:00 p.m. and be immediately followed by a tour of the Ohio Agricultural Research and Development Center facilities. There will be an evening session beginning at 5:30 p.m. and ending at 7:30 p.m. located at The Barnhart Rice Homestead House, a historical home of The Ohio State University. Specific topics of discussion will include presentations by the Experiment Station Committee on Organization and Policy (ESCOP) and items of board business, including brief introductions of new Board members, incumbents, and guests; the election of the Chair and Vice-Chair of the Advisory Board; and comments from a variety of distinguished leaders, experts, and departmental personnel.

On Tuesday, May 6, 2014, the full Advisory Board will convene at 7:00 a.m. for a tour of the J.M. Smucker Company and Cedar Lane Farms. A morning session beginning at 10:00 a.m. will be held at the Shisler Conference Center. Specific topics of discussion will include: continued presentations by the Experiment Station Committee on Organization and Policy (ESCOP); and additional board business. The meeting will adjourn at 5:00 p.m.

On Wednesday, May 7, 2013, the Board will reconvene at 8:00 a.m. to discuss initial recommendations resulting from the meeting and future planning for the Board; to organize the membership of the committees, and working groups of the Advisory Board; and to finalize Board business for the meeting. The Board Meeting will adjourn by 12:00 p.m. (noon).

This meeting is open to the public and any interested individuals wishing to attend.

Opportunity for public comment will be offered each day of the meeting. Written comments by attendees or other interested stakeholders will be welcomed for the public record before and up to two weeks following the Board meeting (by close of business Tuesday, May 23, 2014). All statements will become a part of the official record of the National Agricultural Research, Extension, Education, and Economics Advisory Board and will be kept on file for public review in the Research, Education, and Economics Advisory Board Office.

Done at Washington, DC this 31st day of March 2014.
Ann Bartuska,
Deputy Secretary, Research, Education, and Economics.

[FR Doc. 2014-08478 Filed 4-14-14; 8:45 am]

BILLING CODE 3410-22-P